DEPARTMENT OF ENERGY

Federal Energy Regulatory Commission

[Docket No. RP01-55-001]

WestGas InterState, Inc.; Notice of Compliance Filing

December 18, 2000.

Take notice that on December 11, 2000, WestGas InterState, Inc. (WGI) tendered for filing as part of its FERC Gas Tariff, First Revised Volume No. 1, the following tariff sheets, with an effective date of November 1, 2000:

Second Revised Sheet No. 47

Original Sheet No. 47A

Original Sheet No. 47B

WGI states that the purpose of the filing to provide for netting and trading of imbalances, in compliance with the Commission's “Order on Filings to Establish Imbalance Netting and Trading Pursuant to Order Nos. 587-G and 587-L,” issued in Docket Nos. RM96-1-014, et al., on November 9, 2000. Standard for Business Practices of Interstate Natural Gas Pipelines, 93 FERC ¶61,150 (2000).

Any person desiring to protest said filing should file a protest with the Federal Energy Regulatory Commission, 888 First Street, NE., Washington, DC 20426, in accordance with Section 385.211 of the Commission's Rules and Regulations. All such protests must be filed on or before December 26, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-32693 Filed 12-21-00; 8:45 am]

BILLING CODE 6717-01-M